Title 3—

The President

Waiver From Rescission of Unobligated Funds Under the American Recovery and Reinvestment Act of 2009

Consistent with the authority provided to me under the American Recovery and Reinvestment Act of 2009 (Public Law 111-5), as amended by section 1306 of the Dodd-Frank Wall Street Reform and Consumer Protection Act (Public Law 111-203) (the “Dodd-Frank Act”), I have determined that it is not in the best interest of the Nation to rescind after December 31, 2012, the unobligated amounts made available in Division A of the American Recovery and Reinvestment Act with respect to the accounts with the following Treasury Account Fund Symbol codes and names: 13-0110: DOC—Office of the Inspector General; 86-0190: HUD—Office of Inspector General; 69-0131: DOT—Office of Inspector General; 20-0135: TREAS—Treasury Inspector General for Tax Administration; 49-0301: NSF—Office of the Inspector General; and 73-0201: SBA—Office of Inspector General.

My determination is based on the following considerations:

The requesting Inspectors General are tasked with overseeing investigations that can take multiple years to complete, and the oversight work often begins in earnest during the final phases of a project. In some cases, the awards that the Inspectors General oversee will continue to outlay past December 31, 2012. The $11.5 million unobligated balance will allow Inspectors General the needed flexibility to effectively combat waste, fraud, and abuse.

Therefore, in accordance with section 1306 of the Dodd-Frank Act, I am waiving the requirements for repayment of unobligated funds made available in the American Recovery and Reinvestment Act with respect to the accounts described above.

This notice shall be published in the Federal Register.

THE WHITE HOUSE,

Washington, November 21, 2012.

[FR Doc. 2012-28856

Filed 11-26-12; 11:15 am]

Billing code 3295-F3